DEPARTMENT OF DEFENSE

Department of the Army

Availability for Non-Exclusive, Exclusive, or Partially Exclusive Licensing of U.S. Patent Application Concerning Continuous Aimpoint Tracking System

Correction

In notice document 03-16877 beginning on page 39901 in the issue of Thursday, July 3, 2003, make the following correction:

On page 39901, in the third column, in the SUMMARY section, in the fourth line, the U.S. Patent Application number “101/103,748” should read “10/103,748.”

[FR Doc. C3-16877 Filed 7-8-03; 8:45 am]

BILLING CODE 1505-01-D

DEPARTMENT OF EDUCATION

[CFDA 84.215H]

Office of Safe and Drug-Free Schools—Foundations For Learning Grants; Notice Inviting Applications for New Awards for Fiscal Year (FY) 2003

Correction

In notice document 03-16141 beginning on page 38026 in the issue of Thursday, June 26, 2003 make the following corrections:

1. On page 38027, in the first column, in the third line, “July 30, 2003” should read “August 4, 2003”.

2. On the same page, in the same column, in the fifth line, “August 30, 2003” should read “September 4, 2003”.

[FR Doc. C3-16141 Filed 7-8-03; 8:45 am]

BILLING CODE 1505-01-D

DEPARTMENT OF STATE

Office of Protocol; Gifts to Federal Employees From Foreign Government Sources Reported to Employing Agenices in Calendar Year 2002

Correction

In notice document 03-15209 beginning on page 37208 in the issue of Monday, June 23, 2003 make the following correction:

On page 37242, in the table, in the second column, in the fourth line, “March 19, 2003” should read “ March 19, 2002”.

[FR Doc. C3-15209 Filed 7-8-03; 8:45 am]

BILLING CODE 1505-01-D